ENVIRONMENTAL PROTECTION AGENCY

[FRL-9278-1]

Science Advisory Board Staff Office; Notification of a Public Meeting of the Science Advisory Board Committee on Science Integration for Decision Making

AGENCY: Environmental Protection Agency (EPA).

ACTION: Notice.

SUMMARY: The Environmental Protection Agency (EPA or Agency) Science Advisory Board (SAB) Staff Office announces a public meeting of the SAB Committee on Science Integration for Decision Making.

DATES: The meeting dates are March 29, 2011 from 9 a.m. to 5 p.m. and March 30, 2011 from 8:30 a.m. to 1 p.m. (Eastern Time).

ADDRESSES: The meeting will be held at the Westin Alexandria, 400 Courthouse Square, Alexandria, VA, 22314.

FOR FURTHER INFORMATION CONTACT: Members of the public who wish to obtain further information about this meeting must contact Dr. Angela Nugent, Designated Federal Officer (DFO). Dr. Nugent may be contacted at the EPA Science Advisory Board (1400R), U.S. Environmental Protection Agency, 1200 Pennsylvania Avenue, NW., Washington, DC 20460; or via telephone/voice mail; (202) 565-2218; fax (202) 564-2050; or e-mail at nugent.angela@epa.gov. General information about the EPA SAB, as well as any updates concerning the public meeting announced in this notice, may be found on the SAB Web site at http://www.epa.gov/sab.

SUPPLEMENTARY INFORMATION: Pursuant to the Federal Advisory Committee Act, 5 U.S.C., App. 2 (FACA), notice is hereby given that the SAB Committee on Science Integration for Decision Making will hold a public meeting to discuss the results of fact-finding activities conducted as part of a study of science integration supporting EPA decision making. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: The goal of the committee is to develop an original study that provides recommendations to support and/or strengthen Agency's ability to integrate science to support environmental decisions. The committee previously held the following public meetings and teleconferences: a public meeting on June 9-10, 2009 (74 FR 23187-23188) to receive Agency briefings and develop an initial design for a study plan; a public teleconference on September 16, 2009 (74 FR 43696-43697) to approve the preliminary study plan; and a public meeting on March 30-31, 2010 (75 FR 9895) to discuss the results of fact-finding activities conducted as part of the study plan. The committee is holding the March 29-30, 2011 meeting to discuss a draft report based on their findings and the next steps to complete the study. Additional information about the study and the committee's activities meeting may be found on the SAB Web site at http://yosemite.epa.gov/sab/sabproduct.nsf/fedrgstr_activites/Science%20Integration?OpenDocument.

Availability of Meeting Materials: The agenda and other material in support of this upcoming meeting are posted on the SAB Web site at http://www.epa.gov/sab.

Procedures for Providing Public Input: Interested members of the public may submit relevant written or oral information on the topic of this advisory activity for the SAB to consider during the advisory process. Oral Statements: In general, individuals or groups requesting an oral presentation at a public meeting will be limited to five minutes per speaker. Interested parties should contact Dr. Nugent, DFO, in writing (preferably via e-mail) at the contact information noted above, by March 23, 2011 be placed on a list of public speakers for the meeting. Written Statements: Written statements should be received in the SAB Staff Office by March 23, 2011 so that the information may be made available to the SAB committee members for their consideration. Written statements should be supplied to the DFO in the following formats: One hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Nugent at the phone number or e-mail address noted above, preferably at least ten days prior to the meeting to give EPA as much time as possible to process your request.

Dated: March 3, 2011.
Anthony F. Maciorowski,
Deputy Director, EPA Science Advisory Board Staff Office.

[FR Doc. 2011-5539 Filed 3-9-11; 8:45 am]

BILLING CODE 6560-50-P